DEPARTMENT OF DEFENSE

Office of the Secretary

DoD Dependent Schools; Eligibility Requirements

AGENCY: DoD, DoDDS.

ACTION: Notice.

On August 17, 2000, the Assistant Secretary of Defense for Force Management Policy (ASD(FMP)), signed a memorandum to change Department of Defense (DoD) Directive 1342.13, “Eligibility Requirements for Education of Minor Dependents in Overseas Areas,” dated July 8, 1982. The change provides financial assistance for the education of certain Defense dependents overseas in ares in which the Department of Defense Dependents Schools (DoDDS) does not operate a school. Sponsors must obtain approval for the allowance from the cognizant DoDDS approval authority prior to incurring any expense, with the amount of the educational allowance normally not to exceed the “at post” rate authorized by the Department of State Standardized Regulations (DSSR) (Government Civilians in Foreign Areas), Sections 031.1 and 277.1, for the overseas location to which the DoD sponsor is assigned. No allowance will be provided to defray the educational expenses of dependents of eligible sponsors stationed in overseas areas where local, tax-supported schools provide an educational program in the English language. In such instances, sponsors are expected either to send their dependents to local public schools or to be personally responsible for their private school tuition. The only exception to this policy will be for those dependents whose DoD sponsors are either assigned to a Department of State Activity or independently assigned as an exchange officer to a host nation program. In these cases, the DoD sponsor will be afforded the same educational allowance provided to Department of State employees, or to members of the host nation program to which the DoD sponsor is assigned or attached, up to the published DSSR rate.

SUPPLEMENTARY INFORMATION: DoD Directive 1342.13, “Eligibility Requirements for Education of Minor Dependents in Overseas Areas,” dated July 2, 1982, is published at 32 CFR part 71 and copies are available, at cost, from the National Technical Information Service, 5285 Port Royal Road, Springfield, Virginia 22161, or the Department of Defense Education Activity (DoDEA) web site: www.odedodea.edu. Questions can be addressed to the Department of Defense Education Activity, Attention: Ms. Gail Terres, 4040 North Fairfax Drive, Arlington, VA 22203-1635.

Dated: October 12, 2000.
L.M. Bynum,
Alternate OSD Federal Register Liaison Officer, Department of Defense.

[FR Doc. 00-26676 Filed 10-17-00; 8:45 am]

BILLING CODE 5001-10-M